DEPARTMENT OF TRANSPORTATION

Federal Aviation Administration

14 CFR Part 71

[Docket No. FAA-2020-0567; Airspace Docket No. 20-AAL-15]

RIN 2120-AA66

Amendment to Federal Airways Amber 15 (A-15), V-444, J-502, J-511, and Extension of Canadian Area Navigation Routes Q-902 and Q-811; Alaska

AGENCY: Federal Aviation Administration (FAA), DOT.

ACTION: Final rule; correction.

SUMMARY: This action corrects a final rule published by the FAA in the Federal Register on July 15, 2021. This action amends Federal airways, A-15, V-444, J-502, and J-511 in Alaska. It also establishes an extension of two Canadian Area Navigation Q routes,Q-811, and Q-902. The modifications are necessary due to the decommissioning of the Burwash Non-Directional Beacon (NDB) in Yukon Territory, Canada, which provides navigation guidance for portions of the affected routes. The Burwash NDB was decommissioned effective March 26, 2020 due to ongoing maintenance problems and logistic issues.

DATES: Effective date 0901 UTC, October 7, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Christopher McMullin, Rules and Regulations Group, Office of Policy, Federal Aviation Administration, 800 Independence Avenue SW, Washington, DC 20591; telephone: (202) 267-8783.

SUPPLEMENTARY INFORMATION:

History

The FAA published a notice of proposed rulemaking for Docket No. FAA-2020-0567 in the Federal Register (85 FR 38799; June 29, 2020), a supplemental NPRM (85 FR 60108; September 24, 2020) and a final rule (86 FR 37235; July 15, 2021), amending Federal airways V-15, V-444, jet routes J-502, and J-511, and establishing an extension of two Canadian Area Navigation Q routes, Q-811, and Q-902. The modifications are necessary due to the decommissioning of the Burwash Non-Directional Beacon (NDB) in Yukon Territory, Canada, which provides navigation guidance for portions of the affected routes. Subsequent to the publication, it was determined that exclusionary language, “excluding the airspace within Canada” was included in The Rule section, but was not included in the legal descriptions forQ-902, and Q-811. This rule corrects that error by including “excluding the airspace within Canada” below the line containing IGSOM, CA in the Q-811 legal description and below the line containing KOTZEBUE, AK (OTZ) in the Q-902 legal description. This is an editorial change only and does not alter the alignment of the route as shown on aeronautical charts, and does not affect the use of the route by aircraft.

Canadian Area Navigation Routes are published in paragraph 2007 of FAA Order 7400.11E dated July 21, 2020, and effective September 15, 2020, which is incorporated by reference in 14 CFR 71.1. The Canadian Area Navigation Routes listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Correction to Final Rule

The description of Canadian Area Navigation Routes Q-811 and Q-902, as published on page 37237, in the Federal Register (86 FR 37235; July 15, 2021), FR Doc. 2021-14978, is corrected as follows:

§ 71.1 [Corrected]

1. On page 37237, Table Q-811 DILLINGHAM, AK TO IGSOM [NEW]” is corrected by adding the following entry to the end of the table: “Excluding the airspace within Canada.”

2. On the same page, Table Q-902 SEATTLE, WA TO KOTZEBUE, AK [NEW]” is corrected by adding the following entry to the end of the table: “Excluding the airspace within Canada.”

Issued in Washington, DC, on July 23, 2021.
George Gonzalez,
Acting Manager, Rules and Regulations Group.

[FR Doc. 2021-16020 Filed 7-28-21; 8:45 am]

BILLING CODE 4910-13-P